DEPARTMENT OF HEALTH AND HUMAN SERVICES

Office of the Secretary

[Document Identifier: HHS-OS-0945-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before June 11, 2014.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-0945-New-30D for reference.

Information Collection Request Title: HIPAA Covered Entity and Business Associate Pre-Audit Survey

Abstract: This information collection consists of a survey of up to 1200 Health Insurance Portability and Accountability Act of 1996 (HIPAA) covered entities (health plans, health care clearinghouses, and certain health care providers) and business associates (entities that provider certain services to a HIPAA covered entity) to determine suitability for the Office for Civil Rights (OCR) HIPAA Audit Program. The survey will gather information about respondents to enable OCR to assess the size, complexity, and fitness of a respondent for an audit. Information collected includes, among other things, recent data about the number of patient visits or insured lives, use of electronic information, revenue, and business locations.

Need and Proposed Use of the Information: The Office for Civil Rights (OCR) is mandated to conduct periodic audits to assess the compliance of covered entities and business associates with the HIPAA Privacy, Security, and Breach Notification Rules. This information collection will enable OCR to assess the suitability of respondent covered entities and business associates for audits.

Likely Respondents: Respondents will include both HIPAA covered entities and business associates.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Type of respondent | Number of respondents | Number of responses per respondent | Average burden per response (in hours) | Total burden hours
OCR Pre-Audit Survey | Covered Entity | 800 | 1 | 30/60 | 400
OCR Pre-Audit Survey | Business Associate | 400 | 1 | 30/60 | 200
Total |  | 1200 | 1 | 30/60 | 600

Darius Taylor,
Information Collection Clearance Officer.

[FR Doc. 2014-10829 Filed 5-9-14; 8:45 am]

BILLING CODE 4153-01-P